BUREAU OF CONSUMER FINANCIAL PROTECTION

[Docket No. CFPB-2021-0013]

Agency Information Collection Activities: Submission for OMB Review: Comment Request

AGENCY: Bureau of Consumer Financial Protection.

ACTION: Notice and request for comment.

SUMMARY: In accordance with the Paperwork Reduction Act of 1995 (PRA), the Bureau of Consumer Financial Protection (Bureau) is requesting Office of Management and Budget's (OMB's) approval of a generic Information Collection titled, “Making Ends Meet Survey,” under the Generic Information Collection Plan entitled, “Generic Information Collection Plan for Surveys Using the Consumer Credit Panel.”

DATES: Written comments are encouraged and must be received on or before August 2, 2021 to be assured of consideration.

ADDRESSES: Written comments and recommendations for the proposed information collection should be sent within 30 days of publication of this notice to www.reginfo.gov/public/do/PRAMain. Find this particular information collection by selecting “Currently under 30-day Review—Open for Public Comments” or by using the search function.

In general, all comments received will become public records, including any personal information provided. Sensitive personal information, such as account numbers or Social Security numbers, should not be included.

FOR FURTHER INFORMATION CONTACT: Documentation prepared in support of this information collection request is available at www.reginfo.gov (this link becomes active on the day following publication of this notice). Select “Information Collection Review,” under “Currently Under Review,” use the dropdown menu “Select Agency” and select “Consumer Financial Protection Bureau” (recent submissions to OMB will be at the top of the list). The same documentation is also available at http://www.regulations.gov. Requests for additional information should be directed to Anthony May, Paperwork Reduction Act Officer, at (202) 841-0544, or email: CFPB_PRA@cfpb.gov. If you require this document in an alternative electronic format, please contact CFPB_Accessibility@cfpb.gov. Please do not submit comments to these email boxes.

SUPPLEMENTARY INFORMATION: Title of Collection: Making Ends Meet Survey.

OMB Control Number: 3170-0066.

Type of Review: Request for approval of a generic information collection under an existing Generic Information Collection Plan.

Affected Public: Individuals or households.

Estimated Number of Respondents: 4,200.

Estimated Total Annual Burden Hours: 1,400.

Abstract: Under the Dodd-Frank Wall Street Reform and Consumer Protection Act, the Consumer Financial Protection Bureau is charged with researching, analyzing, and reporting on topics relating to the Bureau's mission, including consumer behavior, consumer awareness, and developments in markets for consumer financial products and services. To improve its understanding of how consumers engage with financial markets, the Bureau has successfully used the Consumer Credit Panel (CCP), a proprietary sample dataset from one of the national credit reporting agencies, as a frame to survey people about their experiences in consumer credit markets. The Bureau seeks to obtain approval for an additional round of the “Making Ends Meet” survey. This series of surveys solicits information on the consumer's experience related to household financial shocks, particularly shocks related to the economic effects of the COVID-19 pandemic, how households respond to those shocks, and the role of savings to help provide a financial buffer. Additional topics in this round of the survey include debt collection, healthcare, housing, and financial decision-making, attitudes, and perspectives. The survey will go to a new random sample of consumers from the CCP. All research under this collection will be related to the household balance sheet, and, thus, will be for general, formative, and informational research on consumer financial markets and consumers' use of financial products and will not directly provide the basis for specific policymaking at the Bureau.

Request for Comments: The Bureau is publishing this notice and soliciting comments directed to the Office of management and Budget on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Special Request for Comments: The proposed survey contains more questions than the Bureau intends to mail, the Bureau solicits comments on which questions provide the most value. Comments submitted in response to this notice will be submitted to OMB as part of its review of this request. All comments will become a matter of public record.

Dated: June 29, 2021.
Anthony May,
Paperwork Reduction Act Officer, Consumer Financial Protection Bureau.

[FR Doc. 2021-14181 Filed 7-1-21; 8:45 am]

BILLING CODE 4810-AM-P